FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 4, 2016.

A. Federal Reserve Bank of Atlanta (Chapelle Davis, Assistant Vice President) 1000 Peachtree Street NE., Atlanta, Georgia 30309. Comments can also be sent electronically to Applications.Comments@atl.frb.org:

1. Kenneth Ray Lehman, Arlington, Virginia; to acquire voting shares of Liberty Shares, Inc., and thereby indirectly acquire voting shares of The Heritage Bank, both in Hinesville, Georgia.

B. Federal Reserve Bank of Chicago (Colette A. Fried, Assistant Vice President) 230 South LaSalle Street, Chicago, Illinois 60690-1414:

1. Warren E. Hansen Sr., managing member of 205 MacArthur LLC; 205 MacArthur LLC, all of Mukwonago, Wisconsin; together with Eunice Hansen and Warren E. Hansen Jr., both of Delavan, Wisconsin; Wayne E. Martin and Donna J. Martin, both of Waterloo, Wisconsin; Todd Martin and Jacquilin Martin, both of Sun Prairie, Wisconsin; Ann C. Hansen, Fitchburg, Wisconsin; Timothy W. Hansen, Delavan, Wisconsin; Jill Wattles and Kevin Wattles, both of Falls Church, Virginia; and Andrew C. Hansen, Delavan, Wisconsin, as a group acting in concert; to retain voting shares of Citizens Bank Holding, Inc., and thereby indirectly retain voting shares of Citizens Bank, both in Mukwonago, Wisconsin.

Board of Governors of the Federal Reserve System, March 15, 2016.
Michael J. Lewandowski,
Associate Secretary of the Board.

[FR Doc. 2016-06152 Filed 3-17-16; 8:45 am]

BILLING CODE 6210-01-P